DEPARTMENT OF COMMERCE

National Oceanic and Atmospheric Administration

[I.D. 052102H]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical Selection Committee, Habitat Committee, Personnel Committee, Finance Committee, Protected Resources Committee, Snapper Grouper Committee, NEPA (National Environmental Policy Act)/EIS (Environmental Impact Statement) Committee. A spiny lobster public scoping meeting will be held and a public comment period on the use of powerheads and spearguns to harvest cobia will be held during the meeting. There will also be a full Council session.

DATES: The meetings will be held June 17, 2002 through June 20, 2002. See SUPPLEMENTARY INFORMATION for specific dates and times.

ADDRESSES: The meetings will be held at the Wyndham Reach Resort, 1435 Simonton Street, Key West, FL 33040; telephone: (1-800) 626-0777 or (305) 296-3535.

Copies of documents are available from Kim Iverson, Public Information Officer, and South Atlantic Fishery Management Council, One Southpark Circle, Suite 306, Charleston, SC 29407-4699.

FOR FURTHER INFORMATION CONTACT: Kim Iverson, Public Information Officer; telephone: 843-571-4366; fax: 843-769-4520; email: kim.iverson@safmc.net.

SUPPLEMENTARY INFORMATION:

Meeting Dates

1. Scientific and Statistical Committee Meeting: June 17, 2002, 1 p.m.-5:30 p.m.

The Scientific and Statistical Committee (SSC) will meet to hear a status report on Snapper Grouper Amendment 14 (Marine Protected Areas), review and discuss options for Snapper Grouper Amendment 13, and hear reports on the results of the Red Porgy Stock Assessment Workshops and Stock Assessment Review (SAW/SARC) meetings, the development of a preliminary Ecopath model for the South Atlantic Bight, the Cost and Returns Economic Study, and the status of the ongoing Fishing Communities Study. Beginning at 6:00 p.m. on Monday, June 17, a public scoping meeting will be held to address issues in the spiny lobster fishery.

2. Habitat Committee Meeting: June 18, 2002, 8:30 a.m.-12 Noon

The Habitat Committee will meet to hear a presentation on economic and governance perspectives on ecosystem management, a presentation on the Essential Fish Habitat (EFH), ecosystem and Ecopath model development workshop process, and a presentation on EFH Final Guidelines. The Committee will also discuss policy statement revisions, guidance and timelines.

3. Personnel Committee Meeting: June 18, 2002, 1:30 p.m.-2:30 p.m. (closed)

The Personnel Committee will meet in closed session to discuss personnel issues.

4. Finance Committee Meeting: June 18, 2002, 2:30 p.m.-3:30 p.m.

The Finance Committee will meet to hear an update on the Calendar Year (CY) 2002 budget.

5. Protected Resources Committee Meeting: June 18, 2002, 3:30 p.m.-5:30 p.m.

The Protected Resources Committee will meet to review the Endangered Species Act (ESA) and Marine Mammal Protection Act (MMPA) with regards to fishery management, discuss objectives of the newly formed committee, develop a structure for the advisory panel, and discuss the impacts of the trawl fishery for jelly balls (jellyfish) on sea turtles and the potential need for management.

6. Snapper Grouper Committee Meeting: June 19, 2002, 8:30 a.m.-12 Noon and 1:30 p.m. until 5 p.m.

The Snapper Grouper Committee will meet to review the status of the Council's request for stock assessments from NMFS, hear reports on: the status of Marine Protected Area (MPA) workshops, red porgy stock assessment review, NMFS capacity work and the Black Seabass Pot Study. The Committee will also discuss the NMFS 2001 Status of U.S. Fisheries Report to Congress and review options and make recommendations regarding Snapper Grouper Amendment 13.

7. Snapper Grouper Committee Meeting:June 20, 2002, 8:30 a.m.-12 Noon

The Snapper Grouper Committee will continue its meeting to review and make recommendations to staff regarding options for Snapper Grouper Amendment 13.

8. NEPA/EIS Committee Meeting: June 20, 2002, 1:30 p.m.- 2:30 p.m.

The NEPA/EIS Committee will meet to discuss the objectives, purpose and functions of the new Committee and establish a Committee name. The Committee will review NEPA requirements and receive a presentation on Programmatic Environmental Impacts Statements.

9. Council Session: June 20, 2002, 3 p.m.-6 p.m.

From 3 p.m.-3:15 p.m., the Council will have a Call to Order, introductions and roll call, adoption of the agenda, and approval of the March 2002 meeting minutes.

From 3:15 p.m.-3:30 p.m., the Council will hear a report from the Habitat Committee.

From 3:30 p.m.-3:45 p.m., the Council will hear a report from the Protected Resources Committee and address Committee recommendations.

Beginning at 3:45 p.m., a public comment period will be held on the issue of using powerhead gear and spears by divers for targeting cobia. Immediately following the comment period, the Council will discuss the issue and make recommendations to staff.

From 4:45 p.m.-6 p.m., the Council will hear a report from the Snapper Grouper Committee and provide direction to staff regarding options for Amendment 13 to the Snapper Grouper FMP.

10. Council Session: June 21, 2002, 8:30 a.m.-1 p.m.

From 8:30 a.m.-8:45 a.m., the Council will hear a report from the Personnel Committee (closed session).

From 8:45 a.m.-9:45 a.m., the Council will receive a legal briefing on litigation affecting the Council and address Committee recommendations.

From 9:45 a.m.-10 a.m., the Council will hear a report from the NEPA/EIS Committee and address Committee recommendations

From 10 a.m.-10:15 a.m., the Council will hear a report from the Finance Committee.

From 10:15 a.m.-10:45 a.m., the Council will receive a presentation on Vessel Monitoring Systems (VMS).

From 10:45 a.m.-11:00 a.m., the Council will hear a report on the Highly Migratory Species (HMS) and Billfish Advisory Panel meetings.

From 11 a.m.-11:15 a.m., the Council will receive an update on the Magnuson-Stevens Act Reauthorization.

From 11:15 a.m.-11:30 a.m., the Council will receive a report on the Council Chairmen's Meeting.

From 11:30 a.m.-11:45 a.m., the Council will hear an update on the Atlantic Coastal Cooperative Statistics Program (ACCSP).

From 11:45 a.m.-1 p.m., the Council will hear NMFS status reports on the Golden/Red Crab FMP management unit emergency request and Shrimp Amendment 5. NMFS will also give status reports on landings for Atlantic king mackerel, Gulf king mackerel (eastern zone), Atlantic Spanish mackerel, snowy grouper & golden tilefish, wreckfish, greater amberjack and south Atlantic octocorals.

From 12 Noon-1 p.m., the Council will hear agency and liasion reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council’s intent to take final action to address the emergency.

Special Accommodations

These meetings are physically accessible to people with disabilities. Requests for sign language interpretation or other auxiliary aids should be directed to the Council office (see ADDRESSES) by June 12, 2002.

Dated: May 24, 2002.
Richard W. Surdi,
Acting Director, Office of Sustainable Fisheries, National Marine Fisheries Service.

[FR Doc. 02-13856 Filed 5-31-02; 8:45 am]

BILLING CODE 3510-22-S